DEPARTMENT OF COMMERCE

National Oceanic and Atmospheric Administration

[I.D.012805A]

Endangered Species; File No. 1516

AGENCY: National Marine Fisheries Service (NMFS), National Oceanic and Atmospheric Administration (NOAA), Commerce.

ACTION: Receipt of application.

SUMMARY: Notice is hereby given that Thomas F. Savoy, CT Department of Environmental Protection, Marine Fisheries Division, P.O. Box 719, Old Lyme, Connecticut, 06371, has applied in due form for a permit to take shortnose sturgeon (Acipenser brevirostrum) for purposes of scientific research.

DATES: Written, telefaxed, or e-mail comments must be received on or before March 14, 2005.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9328; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1516.

FOR FURTHER INFORMATION CONTACT: Jennifer Jefferies or Jennifer Skidmore, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

Mr. Savoy is seeking a permit to enable the Connecticut Department of Environmental Protection to conduct scientific research on shortnose sturgeon in the three major rivers in the state. Annually, 450 fish would be captured via gill net, trammel net, and trawl; measured; PIT tagged; and released in the Connecticut River between river kilometers 0 and 140. A subset of 100 would also be gastric lavaged, a subset of 50 would also have a pectoral fin ray removed, and a subset of 25 would also have a sonic/radio tag attached. Annually, 300 eggs and larvae would be collected by D-net. Additionally, 50 fish annually would be captured via gill net, trammel net, and trawl; measured, PIT tagged; and released in either the Thames or Housatonic Rivers. Mr. Savoy is seeking authorization for these activities for five years from the date of permit issuance.

Dated: February 4, 2005.
Stephen L. Leathery,
Chief, Permits, Conservation and Education Division, Office of Protected Resources, National Marine Fisheries Service.

[FR Doc. 05-2628 Filed 2-9-05; 8:45 am]

BILLING CODE 3510-22-S